ENVIRONMENTAL PROTECTION AGENCY

40 CFR Part 52

[EPA-R05-OAR-2006-0772; FRL-8439-7]

Approval and Promulgation of Air Quality Implementation Plans; Minnesota

AGENCY: Environmental Protection Agency (EPA).

ACTION: Final rule.

SUMMARY: EPA is approving revisions to the Minnesota State Implementation Plan (SIP) for sulfur dioxide (SO2). Specifically, the revisions involve Flint Hills Resources, L.P. (Flint Hills) of Dakota County, Minnesota. In these revisions, Flint Hills is expanding operations at its petroleum refinery. To account for the increased SO2 emissions from the expansion, Flint Hills is closing its sulfuric acid plant. An analysis of the revisions shows that air quality in the area will be protected after the modifications are made at the facility. Minnesota has also included additional monitoring requirements in the revisions. EPA proposed approval of this revision on April 9, 2007. One comment was received on the proposed rule, but the comment did not involve the proposed revision. The comment is addressed in this action.

DATES: This final rule is effective on August 20, 2007.

ADDRESSES: EPA has established a docket for this action under Docket ID No. EPA-R05-OAR-2006-0772. All documents in the docket are listed on the www.regulations.gov Web site. Although listed in the index, some information is not publicly available, i.e., Confidential Business Information (CBI) or other information whose disclosure is restricted by statute. Certain other material, such as copyrighted material, is not placed on the Internet and will be publicly available only in hard copy form. Publicly available docket materials are available either electronically through www.regulations.gov or in hard copy at the Environmental Protection Agency, Region 5, Air and Radiation Division, 77 West Jackson Boulevard, Chicago, Illinois 60604. This facility is open from 8:30 a.m. to 4:30 p.m., Monday through Friday, excluding Federal holidays. We recommend that you telephone Matt Rau, Environmental Engineer, (312) 886-6524 before visiting the Region 5 office.

FOR FURTHER INFORMATION CONTACT: Matt Rau, Environmental Engineer, Criteria Pollutant Section, Air Programs Branch (AR-18J), Environmental Protection Agency, Region 5, 77 West Jackson Boulevard, Chicago, Illinois 60604, (312) 886-6524, rau.matthew@epa.gov.

SUPPLEMENTARY INFORMATION: Throughout this document whenever “we,” “us,” or “our” is used, we mean EPA. This supplementary information section is arranged as follows:

I. What Is the Background for This Action?

II. What Is EPA's Analysis of the State Submission?

III. What Comments Were Received?

IV. What Are the Environmental Effects of This Action?

V. What Action Is EPA Taking Today?

VI. Statutory and Executive Order Reviews

I. What Is the Background for This Action?

Flint Hills operates a petroleum refinery in the Minneapolis-Saint Paul metropolitan area. Flint Hills is expanding its crude oil processing operations. The expansion will increase the crude oil unit's gasoline production capacity from 100,000 to 150,000 barrels per day. Minnesota amended its Findings and Order to allow the revisions necessary for the expansion. This is the eighth amendment to the Flint Hills Findings and Order.

Minnesota held a public hearing regarding Findings and Order Amendment Eight on May 25, 2006. No comments on the Flint Hills revisions were received at the public meeting or during the 30 day public comment period.

EPA proposed approval of the SIP revision on April 9, 2007 (72 FR 17461-63). The comment period closed on May 9, 2007. One comment from the Minnesota Pollution Control Agency (PCA) was received. It is addressed in Section III.

II. What Is EPA's Analysis of the State Submission?

Minnesota included air dispersion modeling results in its submission. The modeling analysis includes all Flint Hills SO2 emissions sources, including the additional and modified sources. Other significant SO2 sources in the area were also included. The modeling analysis examined the impact of the revisions on the SO2 air quality standards. The primary SO2 National Ambient Air Quality Standard (NAAQS) has both an annual and 24-hour averaging period. The secondary NAAQS has a 3-hour averaging period.

Flint Hills used the ISCST3 dispersion model in the regulatory mode. Five years of surface meteorological data from the Minneapolis-Saint Paul International Airport and upper air data from Saint Cloud were used. Building downwash effects from the new and existing structures were accounted for in the modeling. The analysis found that the predicted annual SO2 concentration is 38.5 μg/m³ compared to the standard of 80 μg/m³. The modeled 24-hour level of 266.8 μg/m³ is under the 365 μg/m³ NAAQS. Similarly, the predicted 3-hour average is 726.2 μg/m³ which is under the secondary standard of 1300 μg/m³.

III. What Comments Were Received?

One comment from the Minnesota PCA was received during the comment period. Minnesota PCA requested EPA to rescind the Administrative Order which established emission limits at the Continental Nitrogen & Resource Corporation (Continental Nitrogen) facility. Information on this company's removal of its boilers was included in the Flint Hills submission. Minnesota PCA has requested that EPA rescind the Administrative Order for the Continental Nitrogen boilers. EPA will address this request in a separate action.

The comment does not involve the proposed revisions to the emission limits for Flint Hills. The outcome of the requested revision for Continental Nitrogen will not affect the Flint Hills revision because the Continental Nitrogen boilers are permanently disconnected. The emissions reduction from Continental Nitrogen has already occurred and is not dependent on EPA action.

IV. What Are the Environmental Effects of This Action?

Sulfur dioxide causes breathing difficulties and aggravation of existing cardiovascular disease. It is also a precursor of acid rain and fine particulate matter formation. Sulfate particles are a major cause of visibility impairment in America. Acid rain damages lakes and streams impairing aquatic life and causes damage to buildings, sculptures, statues, and monuments. Sulfur dioxide also causes the loss of chloroform leading to vegetation damage.

The expansion of the Flint Hills facility includes an additional unit and revised limits on several units at the refinery that result in higher SO2 emissions. The projected increase in SO2 emissions from this project is 315 tons per year. However, overall SO2 emissions from Flint Hills will be reduced after the modifications. When considering all sources at the facility there is no increase in SO2 emissions, in fact there is a projected decrease of 99.6 tons per year. Therefore, the “net emissions increase” is below the Prevention of Significant Deterioration (PSD) significant threshold for SO2 of 40 tons per year. This project is not subject to PSD requirements.

The effects of the expansion were analyzed. Both the projected SO2 emissions from the Flint Hills facility and the reductions from other area facilities were considered. That analysis showed that the maximum predicted ambient SO2 concentrations are below the primary and secondary NAAQS. This indicates that public health and welfare in Dakota County, Minnesota will be protected. The additional monitoring requirements placed on the heater combusting the fuel gas from the 45 mix drum will also help protect the air quality by continuously checking the sulfur dioxide emissions from this unit. Corrective action can be taken should the emissions rise above the unit's limit.

V. What Action Is EPA Taking Today?

EPA is approving revisions to SO2 emissions regulations for Flint Hills Resources, L.P. of Dakota County, Minnesota. The revisions authorize adding a new heater, modifying two heaters, and additional monitoring requirements.

VI. Statutory and Executive Order Reviews

Executive Order 12866: Regulatory Planning and Review

Under Executive Order 12866 (58 FR 51735, October 4, 1993), this action is not a “significant regulatory action” and, therefore, is not subject to review by the Office of Management and Budget.

Executive Order 13211: Actions Concerning Regulations That Significantly Affect Energy Supply, Distribution, or Use

Because it is not a “significant regulatory action” under Executive Order 12866 or a “significant regulatory action,” this action is also not subject to Executive Order 13211, “Actions Concerning Regulations That Significantly Affect Energy Supply, Distribution, or Use” (66 FR 28355, May 22, 2001).

Regulatory Flexibility Act

This action merely approves State law as meeting Federal requirements and imposes no additional requirements beyond those imposed by State law. Accordingly, the Administrator certifies that this rule will not have a significant economic impact on a substantial number of small entities under the Regulatory Flexibility Act (5 U.S.C. 601 et seq.).

Unfunded Mandates Reform Act

Because this rule approves pre-existing requirements under state law and does not impose any additional enforceable duty beyond that required by State law, it does not contain any unfunded mandate or significantly or uniquely affect small governments, as described in the Unfunded Mandates Reform Act of 1995 (Pub. L. 104-4).

Executive Order 13175: Consultation and Coordination With Indian Tribal Governments

This rule also does not have tribal implications because it will not have a substantial direct effect on one or more Indian tribes, on the relationship between the Federal Government and Indian tribes, or on the distribution of power and responsibilities between the Federal Government and Indian tribes, as specified by Executive Order 13175 (65 FR 67249, November 9, 2000).

Executive Order 13132: Federalism

This action also does not have Federalism implications because it does not have substantial direct effects on the states, on the relationship between the national government and the states, or on the distribution of power and responsibilities among the various levels of government, as specified in Executive Order 13132 (64 FR 43255, August 10, 1999). This action merely approves a state rule implementing a Federal standard, and does not alter the relationship or the distribution of power and responsibilities established in the Clean Air Act.

Executive Order 13045: Protection of Children From Environmental Health and Safety Risks

This rule also is not subject to Executive Order 13045 “Protection of Children from Environmental Health Risks and Safety Risks” (62 FR 19885, April 23, 1997), because it approves a state rule implementing a Federal Standard.

National Technology Transfer Advancement Act

In reviewing SIP submissions, EPA's role is to approve state choices, provided that they meet the criteria of the Clean Air Act. In this context, in the absence of a prior existing requirement for the state to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply.

Paperwork Reduction Act

This rule does not impose an information collection burden under the provisions of the Paperwork Reduction Act of 1995 (44 U.S.C. 3501 et seq.).

Congressional Review Act

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under Section 307(b)(1) of the Clean Air Act, petitions for judicial review of this action must be filed in the United States Court of Appeals for the appropriate circuit by September 17, 2007. Filing a petition for reconsideration by the Administrator of this final rule does not affect the finality of this rule for the purposes of judicial review nor does it extend the time within which a petition for judicial review may be filed, and shall not postpone the effectiveness of such rule or action. This action may not be challenged later in proceedings to enforce its requirements. (See Section 307(b)(2).)

List of Subjects in 40 CFR Part 52

Environmental protection, Air pollution control, Incorporation by reference, Intergovernmental relations, Reporting and recordkeeping requirements, Sulfur oxides.

Dated: July 5, 2007.
Bharat Mathur,
Acting Regional Administrator, Region 5.

For the reasons stated in the preamble, part 52, chapter I, of title 40 of the Code of Federal Regulations is amended as follows:

PART 52—[AMENDED]

1. The authority citation for part 52 continues to read as follows:

Authority: 42 U.S.C. 7401 et seq.

Subpart Y—Minnesota

2. In § 52.1220, the table in paragraph (d) is amended by revising the entry for “Flint Hills Resources, L.P.” to read as follows:

§ 52.1220 Identification of plan.

* * * * *

(d) * * *

Name of source | Permit No. | State effective date | EPA approval date | Comments
| * * * * * * *
Flint Hills Resources, L.P. (formerly Koch Petroleum) |  | 7/14/06 | 8/20/07, [insert page number where the document begins] | Amendment Eight to Findings and Order.
| * * * * * * *

* * * * *

[FR Doc. E7-13789 Filed 7-18-07; 8:45 am]

BILLING CODE 6560-50-P